NUCLEAR REGULATORY COMMISSION

[Docket No. 50-483; NRC-2012-0001]

License Renewal for Callaway Plant, Unit 1

AGENCY: Nuclear Regulatory Commission.

ACTION: License renewal and record of decision; issuance.

SUMMARY: The U.S. Nuclear Regulatory Commission (NRC) has issued renewed facility operating license No. NPF-30 to Union Electric Company (dba Ameren Missouri or the licensee), the operator of the Callaway Plant, Unit 1 (Callaway). Renewed facility operating license No. NPF-30 authorizes operation of Callaway by the licensee at reactor core power levels not in excess of 3565 megawatts thermal, in accordance with the provisions of the Callaway renewed license and technical specifications. In addition, the NRC has prepared a record of decision (ROD) that supports the NRC's decision to renew facility operating license No. NPF-30.

DATES: The license renewal of facility operating license No. NPF-30 was effective on March 6, 2015.

ADDRESSES: Please refer to Docket ID NRC-2012-0001 when contacting the NRC about the availability of information regarding this document. You may obtain publicly-available information related to this document using any of the following methods:

• Federal Rulemaking Web site: Go to http://www.regulations.gov and search for Docket ID NRC-2012-0001. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: John Daily, Office of Nuclear Reactor Regulation, U.S. Nuclear Regulatory Commission, Washington, DC 20555; telephone: 301-415-3873; email: John.Daily@nrc.gov.

SUPPLEMENTARY INFORMATION: Notice is hereby given that the NRC has issued renewed facility operating license No. NPF-30 to Union Electric Company, the operator of Callaway. Renewed facility operating license No. NPF-30 authorizes operation of Callaway by the licensee at reactor core power levels not in excess of 3565 megawatts thermal, in accordance with the provisions of the Callaway renewed license and technical specifications. The NRC's ROD that supports the NRC's decision to renew facility operating license No. NPF-30 is available in ADAMS under Accession No. ML14302A238. As discussed in the ROD and the final supplemental environmental impact statement (FSEIS) for Callaway, Supplement 51 to NUREG-1437, “Generic Environmental Impact Statement for License Renewal of Nuclear Plants Regarding Callaway Plant, Unit 1,” dated October 2014 (ADAMS Accession No. ML14289A140), the NRC has considered a range of reasonable alternatives that included natural gas combined-cycle, supercritical pulverized coal, new nuclear, wind power, energy efficiency measures, and the no action alternative. The ROD and FSEIS document the NRC decision for the environmental review that the adverse environmental impacts of license renewal for Callaway are not so great that preserving the option of license renewal for energy planning decisionmakers would be unreasonable.

Callaway, Unit 1, is a pressurized water reactor located in Callaway County, Missouri. The application for the renewed license, “Callaway Plant, Unit 1, License Renewal Application,” dated December 15, 2011, as supplemented by letters dated through June 20, 2014 (ADAMS Accession No. ML113530372), complied with the standards and requirements of the Atomic Energy Act of 1954, as amended (the Act), and the NRC's regulations. As required by the Act and the NRC's regulations in chapter 1 of title 10 of the Code of Federal Regulations, the NRC has made appropriate findings, which are set forth in the license. A public notice of the proposed issuance of the renewed license and an opportunity for a hearing was published in the Federal Register on February 24, 2012 (77 FR 11173).

For further details with respect to this action, see: (1) Union Electric Company's (dba Ameren Missouri) license renewal application for Callaway Plant, Unit 1 dated December 15, 2011, as supplemented by letters dated through June 20, 2014; (2) the NRC's safety evaluation report published in August 2014 (ADAMS Accession No. ML14232A380); (3) the NRC's final environmental impact statement (NUREG-1437, Supplement 51), for Callaway, Unit 1, published in October 2014; and (4) the NRC's ROD.

Dated at Rockville, Maryland, this 6th day of March, 2015.
For the Nuclear Regulatory Commission.
Christopher G. Miller,
Director, Division of License Renewal, Office of Nuclear Reactor Regulation.

[FR Doc. 2015-05990 Filed 3-13-15; 8:45 am]

BILLING CODE 7590-01-P